NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 22, 2006 (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication)

1. Department of Commerce, National Oceanic and Atmospheric Administration (N1-370-06-2, 5 items, 3 temporary items). Inputs, outputs, and master files associated with electronic survey databases maintained by the National Marine Fisheries Service to track species behavior, incidents of disease and mortality, and species abundance data. Proposed for permanent retention are historically significant electronic databases and documentation relating to large-scale, long-term species research.

2. Department of Health and Human Services, Centers for Medicare and Medicaid Services (N1-440-05-1, 9 items, 2 temporary items). Audiovisual records maintained by the Office of External Affairs including exhibits, flyers, and handbills. Proposed for permanent retention are recordkeeping copies of mission related recordings, videos, photographs, graphic arts, publications, and related documentation.

3. Department of Health and Human Services, Centers for Medicare and Medicaid Services (N1-440-05-2, 6 items, 5 temporary items). Records relating to rulemaking including rulemaking records of a routine nature and not requiring the Secretary's signature, internal or pre-decisional documents, public comments, and copies of substantive rulemaking records. Proposed for permanent retention are the recordkeeping copies of substantive rulemaking records consisting of cases that establish legal precedent or rules that require the Secretary's signature. This schedule authorizes the agency to apply the proposed disposition instructions to any recordkeeping medium.

4. Department of Health and Human Services, Food and Drug Administration (N1-88-06-2, 19 items, 15 temporary items). Inputs, outputs, master files, and documentation associated with electronic information systems used by the Center for Drug Evaluation and Research to review pediatric drugs, track meetings, formal disputes and resolutions, and environmental assessments, register distributors, and track certain ingredients used in the drug manufacturing process. Proposed for permanent retention are master files and documentation associated with electronic information systems used to register ingredients and substances used in drug manufacturing, and to register all drug applications received by the Center. For all items on this schedule except the master files, the agency is authorized to apply the proposed disposition instructions to any recordkeeping medium.

5. Department of Homeland Security, U.S. Coast Guard (N1-26-06-7, 6 items, 4 temporary items). Records include inputs to an electronic case management system and routine search and rescue case files lacking historical significance. Proposed for permanent retention are recordkeeping copies of historically significant case files, including attachments and enclosures.

6. Department of Homeland Security, U.S. Secret Service (N1-87-06-1, 4 items, 4 temporary items). Land mobile radio voice transmission recordings lacking historical significance, relating to presidential and vice-presidential trips. Recordkeeping copies of significant recordings are covered by a previously approved permanent disposition authority.

7. Department of the Interior, Office of the Secretary (N1-48-06-8, 92 items, 87 temporary items). Records consist of cyber security program and planning files including policies, directives, standards, technical bulletins, guidance, meeting minutes, project plans, enterprise security architecture files, privacy impact assessments, performance reports, and inputs, outputs, master files, and documentation associated with electronic information systems used for the administration of certification and accreditation files and to track incidents and trends. Proposed for permanent retention are recordkeeping copies of the cyber security program court files relating to Indian Fiduciary Trust records.

8. Department of Justice, Bureau of Prisons (N1-129-06-7, 1 item, 1 temporary item). This schedule reduces the retention period for recordkeeping copies of periodic inmate counts at correctional institutions, which were previously approved for disposal.

9. Department of Justice, Federal Bureau of Investigation (N1-65-06-13, 3 items, 1 temporary item). Working papers relating to administrative and operational policies and procedures. Proposed for permanent retention are the recordkeeping copies of policies and procedures. This schedule authorizes the agency to apply the proposed disposition instructions to any recordkeeping medium.

10. Department of Justice, Federal Bureau of Investigation (N1-65-06-14, 1 item, 1 temporary item). This schedule requests authority to destroy case number 175-130, item 1A, which pertains exclusively to the investigation of the captioned individual and meets the criteria in previous schedule N1-65-88-3 for permanent retention based on volume. This request responds to a Federal Pre-Trial Diversion Program court order to delete the records of the captioned individual.

11. Department of the Navy, Agency-wide (N1-NU-06-5, 2 items, 2 temporary items). Records relating to the processing of non-U.S. citizens for access to U.S. restricted defense information. Records include requests, approvals, disapprovals, rescissions, polygraph reports, correspondence, and related information. This schedule authorizes the agency to apply the proposed disposition instructions to any recordkeeping medium.

12. Department of the Navy, Chief of Naval Operations (N1-NU-06-4, 2 items, 2 temporary items). Forms, correspondence, memorandums, and other records relating to the administration of security reviews of documents prior to publication. This schedule authorizes the agency to apply the proposed disposition instructions to any recordkeeping medium.

13. Department of the Navy, Naval Criminal Investigative Service (N1-NU-06-6, 4 items, 4 temporary items). Records relating to the administration of ongoing investigations including tracking forms, plans, and review documents. This schedule authorizes the agency to apply the proposed disposition instructions to any recordkeeping medium.

14. Department of the Treasury, Office of Thrift Supervision (N1-483-06-3, 2 items, 2 temporary items). Consumer complaint files and agency-issued charter certificates for the approval of new Federally-chartered savings associations, corporate title changes, office relocations, and charter amendments. This schedule authorizes the agency to apply the proposed disposition instructions to any recordkeeping medium.

15. General Services Administration, Federal Acquisition Service (N1-137-06-1, 3 items, 3 temporary items). Inputs, master files, and outputs associated with an electronic information system designed to provide a secure, comprehensive identification system for Federal employees.

16. Government Accountability Office, Agency-wide (N1-411-06-1, 8 items, 7 temporary items). Records consist of administrative support files relating to budget, property management, procurement, security, and travel, investigative files that lack historical significance, facility and equipment safety records, personnel security files, and Personnel Appeals Board case files. Proposed for permanent retention are recordkeeping copies of historically significant records relating to the agency's budget submission and testimony, building management, press releases, publications, and special investigations reflecting significant Comptroller General, public, and/or congressional scrutiny. This schedule authorizes the agency to apply the proposed disposition instructions to any recordkeeping medium.

17. Government Accountability Office, Agency-wide (N1-411-06-2, 4 items, 3 temporary items). Records relate to agency audits of federal programs and performance. Included are such records as audit findings and action reports, records documenting interaction with Congress, and scheduled agency appearances at Congressional hearings. Proposed for permanent retention are recordkeeping copies of historically significant audit and engagement records involving issues of far-reaching national or international importance, matters that have a significant impact on agency operations, matters of extensive national media attention, or actions that result in the approval of new Congressional legislation. This schedule authorizes the agency to apply the proposed disposition instructions to any recordkeeping medium.

18. Government Accountability Office, Agency-wide (N1-411-06-3, 6 items, 5 temporary items). Records relate to agency policies and policy development, agency organization, and decisions of senior agency executives. Included are such records as legal decisions and opinions, fraud, regulatory, and related oversight records, Comptroller General meeting records, and bid protests. Proposed for permanent retention are recordkeeping copies of claims, senior executives' subject and correspondence files, agency history files, annual reports, publications, legislative histories, and records relating to the Impoundment Control Act. This schedule authorizes the agency to apply the proposed disposition instructions to any recordkeeping medium.

19. National Archives and Records Administration, Office of the Federal Register (N1-64-06-3, 10 items, 9 temporary items). Inputs, outputs, documentation, and system backups associated with the electronic editing and publication of Federal Register submissions by Federal agencies. Proposed for permanent retention are recordkeeping copies of submissions signed by the President.

20. National Archives and Records Administration, Information Security Oversight Office (N1-64-06-4, 15 items, 7 temporary items). Records relating to program direction and operations, and administrative responsibilities. Proposed for permanent retention are recordkeeping copies of the director's office files, policy development records, requests for waivers or exemptions, reclassification actions, agency copies of Interagency Security Classification Appeals Panel records, and official reports relating to the classification management programs of Executive agencies.

21. Railroad Retirement Board, Office of the General Counsel (N1-184-06-2, 24 items, 19 temporary items). Correspondence, working files, subject files, reference files, and reports relating to legal and legislative services for the agency, including an electronic database and related records used to handle appeals and hearings regarding disagreements with claims decisions of the board. Proposed for permanent are recordkeeping copies of policy and legal files of the General Counsel, and index files to Digests of Legal Opinions.

22. Social Security Administration, Office of International Programs (N1-47-06-01, 13 items, 13 temporary items). Inputs, outputs, and claim files associated with a Web site used to adjudicate veterans' benefit claims for Filipinos who served in the U.S. armed forces during World War II.

23. Tennessee Valley Authority, Power System Operations (N1-142-06-2, 1 item, 1 temporary item). Case files relating to the review and approval process for power transmission lines and substation construction projects. Included are such records as environmental assessments, public involvement plans, public comment letters, Federal Register notices, signed Findings of No Significant Impact, and engineering design records.

Dated: October 17, 2006.
Michael J. Kurtz,
Assistant Archivist for Records Services—Washington, DC.

[FR Doc. E6-17620 Filed 10-20-06; 8:45 am]

BILLING CODE 7515-01-P